DEPARTMENT OF TRANSPORTATION

Surface Transportation Board

[STB Finance Docket No. 34640]

Central Washington Railroad Company—Lease and Operation Exemption—The Burlington Northern and Santa Fe Railway Company

Central Washington Railroad Company (CWA), a noncarrier, has filed a verified notice of exemption under 49 CFR 1150.31 to lease, from The Burlington Northern and Santa Fe Railway Company (BNSF), and operate approximately 41.57 miles of rail line extending: (1) From approximately milepost 33.5 at or near Gibbon, WA, to approximately milepost 63.5 at or near Granger, WA; (2) from approximately milepost 0.0 at or near Yakima, WA, to approximately milepost 2.97 at or near Fruitvale, WA; (3) from approximately milepost 0.0 at or near Yakima to approximately milepost 8.6 at or near Moxee City, WA, as well as certain related yard, industry, side and spur tracks (including the Boise Spur).

In addition, CWA will acquire by assignment from BNSF certain incidental trackage rights over the lines of the Union Pacific Railroad Company (UP) ¹ as follows: (1) At Biggam, WA, from approximately UP milepost 48.2 to approximately UP milepost 49.52; (2) at Grandview, WA, from approximately UP milepost 57.3 at Elm Street to approximately UP milepost 58.75; (3) at Midvale, WA, from approximately UP milepost 62.75 to approximately UP milepost 63.75 (4) from approximately UP milepost 73.4 at Granger, WA, to approximately UP milepost 78.5 at Zillah, WA ; (5) at Sunnyside, WA, from approximately UP milepost 0.0 to approximately UP milepost 3.21, which trackage rights provide CWA with limited access to UP customers from the CWA leased line from Granger to Gibbon, WA;² and (6) from approximately UP milepost 94.5 at Union Gap, WA, to approximately UP milepost 98.07 at the end of the line at Yakima (as well as the yard tracks in UP's Yakima Yard) (Union Gap Trackage), which will provide CWA with limited access to UP customers.³

¹ The assignment of the incidental trackage rights over the UP lines is subject to the consent of UP, which was anticipated to occur on or before December 30, 2004.

² This UP traffic will be interchanged with BNSF at Gibbon.

³ This UP traffic will be interchanged with BNSF at BNSF's Yakima Yard.

CWA will also acquire incidental overhead trackage rights from BNSF over the BNSF line at Yakima from approximately milepost 89.0 to approximately milepost 92.0 (as well as adjacent running and yard tracks), which connect the separate elements of the CWA leased lines at Yakima, provide interchange acess with BNSF at BNSF's Yakima Yard, and facilitate CWA reaching the Union Gap Trackage.

This transaction is related to STB Finance Docket No. 34641, Nicholas B. Temple and Eric Temple—Control Exemption—Central Washington Railroad Company wherein Nicholas B. Temple and Eric Temple have filed a verified notice of exemption to control CWA upon its becoming a Class III rail carrier.

CWA certifies that its projected revenues as a result of this transaction will not exceed those that would qualify it as a Class III rail carrier and states that such revenues will not exceed $5 million annually. The transaction was scheduled to be consummated on or after December 29, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34640, must be filed with the Surface Transportation Board, 1925 K Street, NW., Washington, DC 20423-0001. In addition, a copy of each pleading must be served on Rose-Michele Weinryb, Esq., Weiner Brodsky Sidman Kider PC, 1300 19th St., NW., Fifth Floor, Washington, DC 20036-1609.

Board decisions and notices are available on our website at “http://www.stb.dot.gov.”

Decided: January 12, 2005.
By the Board, David M. Konschnik, Director, Office of Proceedings.
Vernon A. Williams,
Secretary.

[FR Doc. 05-1111 Filed 1-19-05; 8:45 am]

BILLING CODE 4915-01-P